DEPARTMENT OF THE INTERIOR

National Park Service

[N6911; NPS-WASO-NAGPRA-NPS0041982; PPWOCRADN0-PCU00RP14.R50000]

Notice of Inventory Completion: University at Buffalo, State University of New York, Department of Anthropology, Buffalo, NY

AGENCY: National Park Service, Interior.

ACTION: Notice.

SUMMARY: In accordance with the Native American Graves Protection and Repatriation Act (NAGPRA), the University at Buffalo, State University of New York, Department of Anthropology has completed an inventory of human remains and associated funerary objects and has determined that there is a cultural affiliation between the human remains and associated funerary objects and Indian Tribes or Native Hawaiian organizations in this notice.

DATES: Repatriation of the human remains and associated funerary objects in this notice may occur on or after March 13, 2026.

ADDRESSES: Send written requests for repatriation of the human remains and associated funerary objects in this notice to Madeline Smith, University at Buffalo, SUNY, Department of Anthropology, 380 Academic Center, Ellicott Complex, Buffalo, NY 14261-0026, email mgsmith3@buffalo.edu.

SUPPLEMENTARY INFORMATION: This notice is published as part of the National Park Service's administrative responsibilities under NAGPRA. The determinations in this notice are the sole responsibility of the University at Buffalo, SUNY, Department of Anthropology, and additional information on the determinations in this notice, including the results of consultation, can be found in its inventory or related records. The National Park Service is not responsible for the determinations in this notice.

Abstract of Information Available

Human remains representing, at least, four individuals have been identified. The two associated funerary objects are pottery sherds and soil.

At minimum four individuals were believed to have been removed from a site known as Davenport Farm in Ulster County, New York sometime in the mid-20th century. The human remains and associated funerary objects were excavated from land owned by Bruce Davenport at an unknown time by archaeologist Mary Ann Niemczycki. Geographical affiliation of the Davenport Farm site is consistent with the archaeologically documented territory of the Delaware Nation, Delaware Tribe of Indians, Saint Regis Mohawk Tribe, and Stockbridge Munsee Community.

Cultural Affiliation

Based on the information available and the results of consultation, cultural affiliation is reasonably identified by the geographical location or acquisition history of the human remains and associated funerary objects described in this notice.

Determinations

The University at Buffalo, SUNY, Department of Anthropology has determined that:

• The human remains described in this notice represent the physical remains of four individuals of Native American ancestry.

• The two objects described in this notice are reasonably believed to have been placed intentionally with or near individual human remains at the time of death or later as part of the death rite or ceremony.

• There is a connection between the human remains and associated funerary objects described in this notice and the Delaware Nation, Oklahoma; Delaware Tribe of Indians; Saint Regis Mohawk Tribe; and the Stockbridge Munsee Community, Wisconsin.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 13, 2026. If competing requests for repatriation are received, the University at Buffalo, SUNY, Department of Anthropology must determine the most appropriate requestor prior to repatriation. Requests for joint repatriation of the human remains and associated funerary objects are considered a single request and not competing requests. The University at Buffalo, SUNY, Department of Anthropology is responsible for sending a copy of this notice to the Indian Tribes and Native Hawaiian organizations identified in this notice and any other consulting parties.

Authority: Native American Graves Protection and Repatriation Act, 25 U.S.C. 3003, and the implementing regulations, 43 CFR 10.10.

Dated: February 4, 2026.
Melanie O'Brien,
Manager, National NAGPRA Program.

[FR Doc. 2026-02703 Filed 2-10-26; 8:45 am]

BILLING CODE 4312-52-P